DEPARTMENT OF COMMERCE

International Trade Administration

[A-484-803]

Large Diameter Welded Pipe From Greece: Amended Preliminary Determination of Sales at Less Than Fair Value

AGENCY: Enforcement and Compliance, International Trade Administration, Department of Commerce.

SUMMARY: On August 27, 2018, the Department of Commerce (Commerce) published its preliminary determination in the less-than-fair-value investigation of large diameter welded pipe (welded pipe) from Greece in the Federal Register. Commerce is amending this preliminary determination to correct a significant ministerial error.

DATES: Applicable September 27, 2018.

FOR FURTHER INFORMATION CONTACT: Brittany Bauer, AD/CVD Operations, Office II, Enforcement and Compliance, International Trade Administration, U.S. Department of Commerce, 1401 Constitution Avenue NW, Washington, DC 20230; telephone: (202) 482-3860.

SUPPLEMENTARY INFORMATION:

Background

On August 27, 2018, Commerce published in the Federal Register the Preliminary Determination in the less-than-fair-value investigation of welded pipe from Greece,¹ and disclosed all calculations to interested parties. On August 27, 2018, Corinth Pipework Pipe Industry S.A. (Corinth), timely filed a ministerial error allegation concerning the Preliminary Determination and requested, pursuant to 19 CFR 351.224(e), that Commerce correct the alleged ministerial error.² No additional parties submitted comments.

¹ See Large Diameter Welded Pipe from Greece: Preliminary Determination of Sales at Less Than Fair Value and Postponement of Final Determination, 83 FR 43640 (August 27, 2018) (Preliminary Determination).

² See Corinth's Letter re: Antidumping Investigation of Large Diameter Welded Pipe from Greece—Comments Regarding Significant Ministerial Error in Preliminary Determination, dated August 27, 2018 (Corinth Ministerial Error Allegation).

Scope of the Investigation

The product covered by this investigation is welded pipe from Greece. For a complete description of the scope of this investigation, see the Appendix.

Significant Ministerial Error

In accordance with 19 CFR 351.224(e), Commerce “will analyze any comments received and, if appropriate, correct any significant ministerial error by amending the preliminary determination.” A ministerial error is defined in 19 CFR 351.224(f) as “an error in addition, subtraction, or other arithmetic function, clerical error resulting from inaccurate copying, duplication, or the like, and any other similar type of unintentional error which the Secretary considers ministerial.” A significant ministerial error is defined as a ministerial error, the correction of which, singly or in combination with other errors, would result in: (1) A change of at least five absolute percentage points in, but not less than 25 percent of, the weighted-average dumping margin calculated in the original (erroneous) preliminary determination; or (2) a difference between a weighted-average dumping margin of zero or de minimis and a weighted-average dumping margin of greater than de minimis or vice versa.³

³ See 19 CFR 351.224(g)(1) and (2).

Ministerial Error Allegation

Corinth timely alleged that Commerce made a significant ministerial error regarding the calculation of certain freight and storage fees for which Corinth received reimbursement from the customer.⁴ No other party alleged ministerial errors in Commerce's Preliminary Determination. After analyzing Corinth's allegation, we determine that we made a significant ministerial error in the Preliminary Determination with respect to our treatment of certain freight and storage fees in the U.S. market.⁵ For a detailed discussion of Corinth's ministerial error allegation, as well as Commerce's analysis of this error, see the Ministerial Error Memorandum.

⁴ See Corinth Ministerial Error Allegation, at 1-2 and 4.

⁵ See Memorandum, “Less-Than-Fair-Value Investigation of Large Diameter Welded Pipe from Greece: Allegation of Ministerial Error in the Preliminary Determination,” dated concurrently with, and hereby adopted by, this notice (Ministerial Error Memorandum).

Pursuant to 19 CFR 351.224(g)(1), Commerce's error in the calculation of Corinth's freight and storage expenses is significant, because its correction results in a change of at least five absolute percentage points in, but not less than 25 percent of, the estimated weighted-average dumping margin calculated in the Preliminary Determination (i.e., a change from an estimated weighted-average dumping margin of 22.51 percent to 7.45 percent). Therefore, we are correcting this ministerial error and amending our Preliminary Determination accordingly.⁶

⁶ See Ministerial Error Memorandum.

Amended Preliminary Determination

We are amending the Preliminary Determination to reflect the correction of a significant ministerial error made in the margin calculation for Corinth in accordance with 19 CFR 351.224(e). In addition, because the preliminary “All-Others” rate was based on the estimated weighted-average dumping margin calculated for Corinth, we are also amending the “All-Others” rate. As a result of the correction of the ministerial error, the revised estimated weighted-average dumping margins are as follows:

Exporter/producer | Estimated weighted- average dumping margin (percent)
Corinth Pipeworks Pipe Industry S.A | 7.45
All-Others | 7.45

Amended Cash Deposits and Suspension of Liquidation

The collection of cash deposits and suspension of liquidation will be revised according to the rates established in this amended preliminary determination, in accordance with section 733(d) of the Tariff Act of 1930, as amended (the Act). Because these amended rates result in reduced cash deposit rates, they will be effective retroactively to August 27, 2018, the date of publication of the Preliminary Determination.

International Trade Commission Notification

In accordance with section 733(f) of the Act, we intend to notify the International Trade Commission of our amended preliminary determination.

Disclosure

We intend to disclose the calculations performed to parties in this proceeding within five days after public announcement of the amended preliminary determination, in accordance with 19 CFR 351.224.

This amended preliminary determination is issued and published in accordance with sections 733(f) and 777(i) of the Act and 19 CFR 351.224(e).

Dated: September 14, 2018.
Gary Taverman,
Deputy Assistant Secretary for Antidumping and Countervailing Duty Operations, performing the non-exclusive functions and duties of the Assistant Secretary for Enforcement and Compliance.

Appendix

Scope of the Investigation

The merchandise covered by this investigation is welded carbon and alloy steel pipe (including stainless steel pipe), more than 406.4 mm (16 inches) in nominal outside diameter (large diameter welded pipe), regardless of wall thickness, length, surface finish, grade, end finish, or stenciling. Large diameter welded pipe may be used to transport oil, gas, slurry, steam, or other fluids, liquids, or gases. It may also be used for structural purposes, including, but not limited to, piling. Specifically, not included is large diameter welded pipe produced only to specifications of the American Water Works Association (AWWA) for water and sewage pipe.

Large diameter welded pipe used to transport oil, gas, or natural gas liquids is normally produced to the American Petroleum Institute (API) specification 5L. Large diameter welded pipe may also be produced to American Society for Testing and Materials (ASTM) standards A500, A252, or A53, or other relevant domestic specifications, grades and/or standards. Large diameter welded pipe can be produced to comparable foreign specifications, grades and/or standards or to proprietary specifications, grades and/or standards, or can be non-graded material. All pipe meeting the physical description set forth above is covered by the scope of this investigation, whether or not produced according to a particular standard.

Subject merchandise also includes large diameter welded pipe that has been further processed in a third country, including but not limited to coating, painting, notching, beveling, cutting, punching, welding, or any other processing that would not otherwise remove the merchandise from the scope of the investigation if performed in the country of manufacture of the in-scope large diameter welded pipe.

The large diameter welded pipe that is subject to this investigation is currently classifiable in the Harmonized Tariff Schedule of the United States (HTSUS) under subheadings 7305.11.1030, 7305.11.1060, 7305.11.5000, 7305.12.1030, 7305.12.1060, 7305.12.5000, 7305.19.1030, 7305.19.1060, 7305.19.5000, 7305.31.4000, 7305.31.6010, 7305.31.6090, 7305.39.1000 and 7305.39.5000. While the HTSUS subheadings are provided for convenience and customs purposes, the written description of the scope of this investigation is dispositive.

[FR Doc. 2018-20935 Filed 9-26-18; 8:45 am]

BILLING CODE 3510-DS-P